DEPARTMENT OF AGRICULTURE

Animal and Plant Health Inspection Service

[Docket No. APHIS-2018-0026]

Notice of Request for Revision to and Extension of Approval of an Information Collection; Endangered Species Regulations and Forfeiture Procedures

ACTION: Revision to and extension of approval of an information collection; comment request.

SUMMARY: In accordance with the Paperwork Reduction Act of 1995, this notice announces the Animal and Plant Health Inspection Service's intention to request a revision to and extension of approval of an information collection associated with the regulations for the protection of endangered species of terrestrial plants and for procedures related to the forfeiture of plants or other property.

DATES: We will consider all comments that we receive on or before July 10, 2018.

ADDRESSES: You may submit comments by either of the following methods:

• Federal eRulemaking Portal: Go to http://www.regulations.gov/#!docketDetail;D=APHIS-2018-0026.

• Postal Mail/Commercial Delivery: Send your comment to Docket No. APHIS-2018-0026, Regulatory Analysis and Development, PPD, APHIS, Station 3A-03.8, 4700 River Road, Unit 118, Riverdale, MD 20737-1238.

Supporting documents and any comments we receive on this docket may be viewed at http://www.regulations.gov/#!docketDetail;D=APHIS-2018-0026 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations to protect endangered species of terrestrial plants and forfeiture procedures, contact Dr. John Veremis, National CITES Director, PHP, PPQ, APHIS, 4700 River Road, Unit 40, Riverdale, MD 20737-1236; (301) 851-2347. For copies of more detailed information on the information collection, contact Ms. Kimberly Hardy, APHIS' Information Collection Coordinator, at (301) 851-2483.

SUPPLEMENTARY INFORMATION:

Title: Endangered Species Regulations and Forfeiture Procedures.

OMB Control Number: 0579-0076.

Type of Request: Revision to and extension of approval of an information collection.

Abstract: Under the Endangered Species Act of 1973, as amended (16 U.S.C. 1531 et seq.), the U.S. Department of Agriculture (USDA) is responsible for enforcing provisions of the Act and the Convention on International Trade in Endangered Species of Wild Fauna and Flora (CITES) that pertain to the importation, exportation, or reexportation of plants.

As part of this mission, USDA's Animal and Plant Health Inspection Service (APHIS) administers the regulations in 7 CFR part 355, “Endangered Species Regulations Concerning Terrestrial Plants.” In accordance with these regulations, any entity wishing to engage in the business of importing, exporting, or reexporting terrestrial plants listed in the CITES regulations at 50 CFR 17.12 or 23.23 must obtain a protected plant permit from APHIS. Such entities include importers, exporters, or reexporters who sell, barter, collect, or otherwise exchange or acquire terrestrial plants as a livelihood or enterprise engaged in for gain or profit. The requirement does not apply to persons engaged in business merely as carriers or customhouse brokers.

To obtain a protected plant permit, entities must complete an application and submit it to APHIS for approval. When a permit has been issued, the plants covered by the permit may be imported into the United States, exported, or reexported, provided they are accompanied by documentation required by the regulations and all other conditions of the regulations are met.

Effectively regulating entities who are engaged in the business of importing, exporting, or reexporting endangered species of terrestrial plants requires the use of this application process, as well as the use of other information collection activities including, but not limited to, appealing the denial of a permit; marking containers used for the importation, exportation, or reexportation of the plants; notifying APHIS of the impending importation, exportation, or reexportation of the plants; validating documents; creating and maintaining records of importation, exportation, and reexportation; and submitting related reports from records required to be maintained.

APHIS also administers regulations at 7 CFR part 356, “Forfeiture Procedures,” which sets out procedures for the forfeiture of plants or other property by entities found to be in violation of the Endangered Species Act or the Lacey Act (16 U.S.C. 3371 et seq.). Entities whose property is subject to forfeiture may file with APHIS a waiver of forfeiture procedures, a claim, a request for return of property, or petition for remission or mitigation of forfeiture.

The information provided by these information collection activities is critical to APHIS' ability to carry out its responsibilities under the Endangered Species Act and the Lacey Act. These responsibilities include monitoring importation, exportation, and reexportation activities involving endangered species of plants, as well as the investigation of possible violations and the forfeiture of plants or other property.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.094 hours per response.

Respondents: U.S. importers and exporters of endangered species of terrestrial plants.

Estimated annual number of respondents: 1,097.

Estimated annual number of responses per respondent: 148.

Estimated annual number of responses: 162,217.

Estimated total annual burden on respondents: 15,254 hours. (Due to averaging, the total annual burden hours may not equal the product of the annual number of responses multiplied by the reporting burden per response.)

All responses to this notice will be summarized and included in the request for OMB approval. All comments will also become a matter of public record.

Done in Washington, DC, this 7th day of May 2018.
Kevin Shea,
Administrator, Animal and Plant Health Inspection Service.

[FR Doc. 2018-10097 Filed 5-10-18; 8:45 am]

BILLING CODE 3410-34-P